DEPARTMENT OF TRANSPORTATION

Federal Aviation Administration

14 CFR Part 39

[Docket No. 2000-NE-62-AD; Amendment 39-12499; AD 2001-23-02]

RIN 2120-AA64

Airworthiness Directives; Rolls-Royce plc RB211 Turbofan Engines

AGENCY: Federal Aviation Administration, DOT.

ACTION: Final rule.

SUMMARY: This amendment adopts a new airworthiness directive (AD), that is applicable to Rolls-Royce plc model RB211-535E4-37, RB211-535E4-B-37, RB211-535C-37, RB211-535E4-B-75 and RB211-22B-02 turbofan engines. This amendment requires inspection of certain high pressure (HP) turbine disks, manufactured between 1989 and 1999, for cracks in the rim cooling air holes, and, if necessary, replacement with serviceable parts. This amendment is prompted by reports of cracks in two high life Trent 800 disk rim cooling air holes produced at the same manufacturing facility using the same tooling as the RB211 turbofan engine HP turbine disks. The actions specified by this AD are intended to prevent possible disk failure, which could result in an uncontained engine failure and damage to the aircraft.

DATES: Effective date December 24, 2001. The incorporation by reference of certain publications listed in the regulations is approved by the Director of the Federal Register as of December 24, 2001.

ADDRESSES: The service information referenced in this AD may be obtained from Rolls-Royce plc, PO Box 31, Derby, England; telephone: International Access Code 011, Country Code 44, 1332-249428, fax: International Access Code 011, Country Code 44, 1332-249223. This information may be examined, by appointment, at the FAA, New England Region, Office of the Regional Counsel, 12 New England Executive Park, Burlington, MA. or at the Office of the Federal Register, 800 North Capitol Street, NW., suite 700, Washington, DC.

FOR FURTHER INFORMATION CONTACT: James Lawrence, Aerospace Engineer, Engine Certification Office, FAA, Engine and Propeller Directorate, 12 New England Executive Park, Burlington, MA 01803-5299; telephone (781) 238-7176, fax (781) 238-7199.

SUPPLEMENTARY INFORMATION: A proposal to amend part 39 of the Federal Aviation Regulations (14 CFR part 39) to include an AD that is applicable to Rolls-Royce plc model RB211-535E4-37, RB211-535E4-B-37, RB211-535C-37, RB211-535E4-B-75, and RB211-22B-02 turbofan engines was published in the Federal Register on July 26, 2001 (66 FR 38961). That action proposed to require inspection of certain high pressure (HP) turbine disks, manufactured between 1989 and 1999, for cracks in the rim cooling air holes, and, if necessary, replacement with serviceable parts, in accordance with Rolls-Royce Mandatory Service Bulletin RB.211-72-C817, Revision 1, dated December 14, 1999 and Rolls-Royce Mandatory Service Bulletin RB.211-72-C817, Revision 2, dated March 7, 2001; and Rolls-Royce Mandatory Service Bulletin RB.211-72-C877, dated January 29, 2000 and Rolls-Royce Mandatory Service Bulletin RB.211-72-C877, Revision 1, dated March 7, 2001.

Comments

Interested persons have been afforded an opportunity to participate in the making of this amendment. Due consideration has been given to the comment received.

One commenter notes that a typographical error was made in the serial number range for CQDY, which was incorrectly listed as CDQY. The FAA agrees and the error has been corrected.

After careful review of the available data, including the comment noted above, the FAA has determined that air safety and the public interest require the adoption of the rule with the changes described previously. The FAA has determined that these changes will neither increase the economic burden on any operator nor increase the scope of the AD.

Economic Analysis

There are approximately 549 engines of the affected design in the worldwide fleet. The FAA estimates that 300 engines installed on aircraft of U.S. registry would be affected by this AD. The FAA also estimates that it would take approximately 4 work hours per engine to accomplish the proposed actions, and that the average labor rate is $60 per work hour. No parts are required. Based on these figures, the total cost impact of the AD on U.S. operators is estimated to be $72,000.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-23-02 Rolls-Royce: Amendment 39-12499. Docket No. 2000-NE-62-AD.

Applicability: Rolls-Royce plc model (RR) RB211-535E4-37 and RB211-535E4-B-37 turbofan engines, with the following high pressure (HP) turbine disks installed: part number (P/N) UL10323, with serial numbers (SN's) CQDY6070 and higher; P/N UL27680, with any serial number; and P/N UL27681, with any serial number. RR model B211-535C-37 turbofan engines, with the following HP turbine disks installed: P/N LK80622, with SN LQDY6316 and higher; P/N LK80623, with SN CQDY5945 and higher; and P/N UL28267, with any serial number. RR model RB211-535E4-B-75 turbofan engines with the following HP turbine disks installed: P/N UL10323, with SN CQDY6070 and higher; and P/N UL27680, with any serial number. RR model RB211-22B-02 turbofan engines with the following HP turbine disks installed: P/N LK80622, with SN LQDY6316 and higher; P/N LK80623, with SN CQDY5945 and higher; and P/N UL28267, having any serial number. These engines are installed on but not limited to Boeing 757, Tupolev Tu204, and Lockheed L-1011 series airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required as indicated, unless already done. To prevent possible high pressure (HP) turbine disk failure, which could result in an uncontained engine failure and damage to the airplane, accomplish the following:

Inspection for All Except Model RB211-22B-02

(a) For model RB211-535E4-37, RB211-535E4-B-37, RB211-535C-37, and RB211-535E4-B-75 engines, conduct a one-time inspection of the HP turbine disks identified in Section A. (1) and (2), of RR SB No. RB.211-72-C817, Revision 2, dated March 7, 2001, for cracks on the rear face of the cooling air holes.

(1) For disk life at or below 13,700 cycles on the effective date of this AD, inspect at the earlier of the following :

(i) At the next shop visit when the HP turbine blades have been removed from the disk; or

(ii) Prior to exceeding 14,500 cycles-in-service (CIS) since new.

(2) For disk life above 13,700 cycles on the effective date of this AD, inspect at the earliest of the following:

(i) Prior to reaching 15,300 CIS since new; or

(ii) Within 800 cycles after the effective date of this AD; or

(iii) At the next shop visit when the HP turbine blades have been removed from the disk.

(3) Inspect the HP turbine disk for cracks on the rear face of the cooling air holes in accordance with the Accomplishment Instructions, Section 3 of RR SB No. RB.211-72-C817, Revision 1, dated January 24, 2000; or RR SB No. RB.211-72-C817, Revision 2, dated March 7, 2001.

(4) Replace any cracked HP turbine disk with a serviceable part.

Inspections for Model RB211-22b-02

(b) For model RB211-22B-02 engines, conduct a one-time inspection of the HP turbine disks identified in Section A. of RR SB No. RB.211-72-C877, Revision 1, dated March 7, 2001, for cracks on the rear face of the cooling air holes.

(1) For disk life at or below 11,000 CIS on the effective date of this AD, inspect at the earlier of the following:

(i) At the next shop visit when the HP turbine blades have been removed from the disk; or

(ii) Prior to exceeding 11,000 CIS since new.

(2) HP turbine disks with more than 11,000 CIS on the effective date of this AD must be inspected within 300 CIS after the effective date of this AD.

(3) Inspect the HP turbine disk for cracks on the rear face of the cooling air holes in accordance with the Accomplishment Instructions outlined in Section 3 of RR SB No. RB.211-72-C877, dated January 29, 2000, or RR SB No. RB.211-72-C877, Revision 1, dated March 7, 2001.

(4) Replace any cracked HP turbine disk with a serviceable part.

Alternative Methods of Compliance

(c) An alternative method of compliance or adjustment of the compliance time that provides an acceptable level of safety may be used if approved by the Manager, Engine Certification Office (ECO). Operators shall submit their requests through an appropriate FAA Principal Maintenance Inspector, who may add comments and then send it to the Manager, ECO.

Note 2: Information concerning the existence of approved alternative methods of compliance with this AD, if any, may be obtained from the ECO.

Ferry Flights

(d) Special flight permits may be issued in accordance with sections 21.197 and 21.199 of the Federal Aviation Regulations (14 CFR 21.197 and 21.199) to operate the airplane to a location where the requirements of this AD can be accomplished.

Documents That Have Been Incorporated by Reference

(e) The inspection must be done in accordance with the following Rolls-Royce mandatory service bulletins:

Document No. | Pages | Revision | Date
MSB RB.211-72-C817 | 1 | 1 | Jan. 24, 2000.
| 2-7 | Original | Dec. 14, 1999.
| 8-11 | 1 | Jan. 24, 2000.
| 12-21 | Original | Dec. 14, 1999.
Total pages: 21
MSB RB.211-72-C817 | All | 2 | Mar. 7, 2001.
Total pages: 6
MSB RB.211-72-C877 | All | Original | Jan. 29, 2000.
Total pages: 17
MSB RB.211-72-C877 | All | 1 | Mar. 7, 2001.
Total pages: 5

This incorporation by reference was approved by the Director of the Federal Register in accordance with 5 U.S.C. 552(a) and 1 CFR part 51. Copies may be obtained from Rolls-Royce plc, PO Box 31, Derby, England; telephone: International Access Code 011, Country Code 44, 1332-249428, fax: International Access Code 011, Country Code 44, 1332-249223. Copies may be inspected, by appointment, at the FAA, New England Region, Office of the Regional Counsel, 12 New England Executive Park, Burlington, MA; or at the Office of the Federal Register, 800 North Capitol Street, NW., suite 700, Washington, DC.

Note 3: The subject of this AD is addressed in Civil Aviation Authority (CAA) Airworthiness Directives 003-12-99 and 004-01-2000.

Effective Date

(f) This amendment becomes effective on December 24, 2001.

Issued in Burlington, Massachusetts, on November 5, 2001.
Mark C. Fulmer,
Acting Manager, Engine and Propeller Directorate, Aircraft Certification Service.

[FR Doc. 01-28418 Filed 11-16-01; 8:45 am]

BILLING CODE 4910-13-U